FEDERAL COMMUNICATIONS COMMISSION

Notice of Public Information Collection(s) Being Submitted for Review to the Office of Management and Budget, Comments Requested

March 17, 2009.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before April 20, 2009. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B.Herman@fcc.gov, Federal Communications Commission, or an e-mail to PRA@fcc.gov. To view a copy of this information collection request (ICR) submitted to OMB: (1) Go to the Web page http://reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION: OMB Control Number: 3060-0986.

Title: Competitive Carrier Line Count Report, WC Docket No. 05-337, CC Docket No. 96-45.

Form Number: FCC Form 525.

Type of Review: Revision of a currently approved collection.

Respondents: Business or other for profit and not-for-profit institutions.

Number of Respondents and Responses: 1,923 respondents; 5,458 responses.

Estimated Time per Response: .5-6 hours.

Frequency of Response: On occasion, quarterly, and annual reporting requirements.

Obligation to Respond: Required to obtain or retain benefits.

Total Annual Burden: 27,328 hours.

Annual Cost Burden: $1,093,120.00.

Privacy Act Impact Assessment: No impact.

Nature and Extent of Confidentiality: The Commission is not requesting that the respondents submit confidential information to the FCC. Respondents may, however, request confidential treatment for information they believe to be confidential under 47 CFR 0.459 of the Commission's rules.

Needs and Uses: This collection is being submitted as a revision to a currently approved collection. In April 2008, the Commission adopted an order that capped total annual competitive eligible telecommunications carrier (ETC) universal service high-cost support for each state at the level of support that competitive ETCs in that state were eligible to receive during March 2008 on an annualized basis. The Commission also adopted two limited exceptions from the application of the interim cap. First, a competitive ETC will not be subject to the interim cap to the extent it files cost data demonstrating that its costs meet the support threshold in the same manner as the incumbent local exchange carrier. The Commission plans to submit an additional revision to OMB at a later date seeking approval to collect competitive ETCs' cost data. Second, the Commission also created a limited exception for competitive ETCs serving tribal lands or Alaska Native regions (covered location). High-Cost Universal Service Support; Federal-State Joint Board on Universal Service, WC Docket No. 05-337, CC Docket No. 96-45, FCC 08-122. Competitive ETCs opting into the exception for Tribal lands or Alaska Native regions would have to file line counts on FCC Form 525 separately for covered and non-covered locations. Most competitive ETCs that serve these locations already have separate study area codes for the covered location, and this requirement will not increase their burden. A small number of competitive ETCs, however, may need to make a one time request for additional study area codes. Thereafter, these carriers will have to file an additional Form 525 for each additional study area code. Additionally, each competitive ETC opting into this exception will be required to file, each time it files line count data, a certification that the lines reflected in a particular filing are within a covered location. The competitive ETCs also will be required to maintain records showing how they determined that the lines were in a covered location. The Commission will not amend FCC Form 525 to incorporate the information requests related to this limited exception to the interim cap on high-cost support. The Commission has reviewed the information collection and has revised the estimates that are detailed in the supporting statement. Additionally, the Commission is revising the collection to incorporate the reporting requirements of OMB 3060-0793 for the self-certification as a rural carrier requirement into this collection under OMB Control Number 3060-0986. The self-certification for rural carriers is rarely filed with the Commission, therefore, its incorporation into OMB 3060-0986 will ease the Commission's administrative burden for complying with information collection requirements. Upon OMB approval of this revision, the Commission will voluntarily discontinue OMB Control Number 3060-0793 and retain this one for OMB's inventory.

Marlene H. Dortch,
Secretary, Federal Communications Commission.

[FR Doc. E9-6132 Filed 3-19-09; 8:45 am]

BILLING CODE 6712-01-P